FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 010979-056.

Title: Caribbean Shipowners Association.

Parties: CMA CGM SA; Crowley Caribbean Services LLC; Hybur Ltd.; Seaboard Marine, Ltd.; Seafreight Line, Ltd.; Tropical Shipping and Construction Company Limited; King Ocean Services Limited; and Zim Integrated Shipping Services, Ltd.

Filing Party: Wayne R. Rohde, Esq.; Cozen O'Connor, 1627 I Street, NW; Washington, DC 20006.

Synopsis: The amendment would add the Bahamas to the geographic scope of the agreement.

Agreement No.: 011223-049.

Title: Transpacific Stabilization Agreement.

Parties: American President Lines, Ltd. and APL Co. PTE Ltd. (operating as a single carrier); A.P. Moller-Maersk A/S trading under the name of Maersk Line; China Shipping Container Lines (Hong Kong) Company Limited and China Shipping Container Lines Company Limited (operating as a single carrier); CMA CGM S.A.; COSCO Container Lines Company, Ltd; Evergreen Line Joint Service Agreement, FMC No. 011982; Hanjin Shipping Co., Ltd.; Hapag-Lloyd A.G.; Hyundai Merchant Marine Co., Ltd.; Kawasaki Kisen Kaisha, Ltd.; Mediterranean Shipping Company S.A.; Nippon Yusen Kaisha; Orient Overseas Container Line Limited; Yangming Marine Transport Corp.; and Zim Integrated Shipping Services, Ltd.

Filing Party: David F. Smith, Esq.; Cozen O'Connor; 6271 I Street, NW; Suite 1100; Washington, DC 20006.

Synopsis: The amendment deletes Siberia Russia from the geographic scope of the agreement.

Agreement No.: 012210.

Title: Siem Car Carrier Pacific AS/Eukor Car Carriers Inc. Space Charter Agreement.

Parties: Siem Car Carrier Pacific AS and Eukor Car Carriers Inc.

Filing Party: Ashley W. Craig Esq.; Venable LLP; 575 Seventh Street NW., Washington, DC 20004.

Synopsis: The agreement authorizes the parties to charter space in the trade between China and South Korea, on the one hand, and the U.S. West Coast, on the other hand.

Agreement No.: 201215-001.

Title: Port of Los Angeles Data Delivery Agreement.

Parties: City of Los Angeles Harbor Department; PierPass Inc.; APM Terminals Pacific; California United Terminals, Inc.; Eagle Marine Services, Ltd.; Seaside Transportation Services, LLC; Trapac Inc.; Yusen Terminals, Inc.; and West Basin Container Terminal, L.L.C.

Filing Party: David F. Smith, Esq., Cozen O'Connor; 1627 I Street NW., Suite 1100; Washington, DC 20006-4007.

Synopsis: The amendment would extend the agreement's term and adjust the compensation provided for in the agreement.

By Order of the Federal Maritime Commission.
Dated: June 7, 2013.
Karen V. Gregory,
Secretary.

[FR Doc. 2013-13972 Filed 6-11-13; 8:45 am]

BILLING CODE P